FEDERAL COMMUNICATIONS COMMISSION

47 CFR Part 73

[FRS 16933; DA 20-719]

Radio Broadcasting Services; Various Locations

AGENCY: Federal Communications Commission.

ACTION: Final rule.

SUMMARY: This document amends the FM Table of Allotments, of the Commission's rules, by reinstating certain vacant FM allotments. These FM allotments are considered vacant because of the cancellation of the associated authorizations and licenses, or the dismissal of long-form auction applications. Theses vacant FM allotments have previously undergone notice and comment rule making. Reinstatement of the vacant allotments is merely a ministerial action to effectuate licensing procedures. Therefore, we find for good cause that further notice and comment are unnecessary.

DATES: Effective August 10, 2020.

FOR FURTHER INFORMATION CONTACT: Rolanda F. Smith, Media Bureau, (202) 418-2700.

SUPPLEMENTARY INFORMATION: This is a synopsis of the Commission's Order, adopted July 10, 2020 and released July 10, 2020. The full text of this Commission decision is available online at http://apps.fcc.gov/ecfs/. This document does not contain information collection requirements subject to the Paperwork Reduction Act of 1995, Public Law 104-13. The Commission will not send a copy of the Order in a report to be sent to Congress and the Government Accountability Office pursuant to the Congressional Review Act, see 5 U.S.C. 801(a)(1)(A) because the Order is a ministerial action.

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202 in paragraph (b) amend Table 1 by:

a. Under California adding, in alphabetical order, “Avenal, Channel 269A,”, Coalinga, Channel 261B”, “Dos Palos, Channel 240A”, “Firebaugh, Channel 234A”, “Ford City, Channel 271A”, “King City, Channel 275A”, and “Lindsay, Channel 277B1”;

b. Under Colorado adding, in alphabetical order, “Calhan, Channel 284C3”, and “Idalia, Channel 231A”;

c. Under Iowa revising the entry for “Asbury”;

e. Under Texas adding, in alphabetical order, “Hereford, Channel 278C2”, and “Palacios, Channel 259C1”;

f. Under Virgin Islands adding, in alphabetical order, “Charlotte Amalie, Channel *275A”.

§ 73.202 Table of Allotments.

* * * * *

(b) * * *

Table 1 to Paragraph (b)
| Channel No.
California
* * * * *
Avenal | 269A
* * * * *
Coalinga | 261B
Dos Palos | 240A
* * * * *
Firebaugh | 234A
Ford City | 271A
* * * * *
King City | 275A
* * * * *
Lindsay | 277B1
* * * * *
Colorado
* * * * *
Calhan | 284C3
* * * * *
Idalia | 231A
* * * * *
Iowa
* * * * *
Asbury | *254A
* * * * *
Texas
* * * * *
Hereford | 278C2
* * * * *
Palacios | 259C1
* * * * *
Virgin Islands
Charlotte Amalie | *275A
* * * * *

[FR Doc. 2020-16152 Filed 8-7-20; 8:45 am]

BILLING CODE 6712-01-P